DEPARTMENT OF HEALTH AND HUMAN SERVICES

Centers for Medicare and Medicaid Services

[CMS-10096, CMS-2786]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New Collection; Title of Information Collection: Medicare Health Survey (MHS); Form No.: CMS-10096 (OMB# 0938-NEW); Use: The Centers for Medicare and Medicaid Services has developed a survey, the Medicare Health Survey, that is similar to the Health Outcomes Survey (HOS). The main purpose of the MHS is to collect information that may be used to adjust Medicare payment. This approach has been tested for PACE (as mandated by BBA) and other organizations that serve frail populations and frailty adjusted payments will be made to PACE and certain demonstrations starting in 2004. CMS is currently investigating the feasibility of applying frailty adjustment to the M+C program in the future. To conduct the necessary research, CMS needs functional impairment information for a national sample of FFS beneficiaries. The information will be used for two purposes; to develop appropriate adjustments to the ratebook for levels of functional impairment, and to recalibrate the frailty payment model using FFS data. Adjusting the ratebook is necessary to ensure accurate payment while recalibration of the frailty model based on the MHS will properly align the calibration of the model and the data collection method, thereby avoiding payment error associated with the mode of administration issues; Frequency: Annually; Affected Public: Individuals or Households; Number of Respondents: 50,000; Total Annual Responses: 35,000; Total Annual Hours: 5,833.

2. Type of Information Collection Request: Extension of a currently approved collection; Title of Information Collection: Fire Safety Survey Report Forms and Supporting Regulations in 42 CFR 488.26 and 442.30; Form No.: CMS-2786 M, R, and T-Y (OMB# 0938-0242); Use: CMS surveys facilities to determine compliance with the Life Safety Code of 2000. The providers must make documentation proving compliance available to the surveyors; Frequency: Annually; Affected Public: Business or other for-profit, Not-for-profit institutions; Number of Respondents: 27,900; Total Annual Responses: 27,900; Total Annual Hours: 2325.

To obtain copies of the supporting statement and any related forms for the proposed paperwork collections referenced above, access CMS's Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room C5-14-03, 7500 Security Boulevard, Baltimore, Maryland 21244-1850.

Dated: September 5, 2003.
Julie Brown,
CMS Reports Clearance Officer, Office of Strategic Operations and Strategic Affairs, Division of Regulations Development and Issuances.

[FR Doc. 03-23213 Filed 9-11-03; 8:45 am]

BILLING CODE 4120-03-P